DEPARTMENT OF COMMERCE

National Oceanic and Atmospheric Administration

[RTID 0648-XE851]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Atlantic blue marlin continues to be overfished. NMFS, on behalf of the Secretary, is required to provide this notice whenever it determines that a stock or stock complex is subject to overfishing, overfished, or approaching an overfished condition.

FOR FURTHER INFORMATION CONTACT: Evelyn Strombom, (301)-427-8633.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition.

NMFS has determined that Atlantic blue marlin continues to be overfished. This determination is based on the most recent assessment completed in 2024, using data through 2022, and is consistent with the status determination criteria of both the domestic fishery management plan and the International Commission for the Conservation of Atlantic Tunas (ICCAT) Standing Committee on Research and Statistics. NMFS continues to work with ICCAT on measures contained in the rebuilding plan.

Dated: June 24, 2025.
Kelly Denit,
Director, Office of Sustainable Fisheries, National Marine Fisheries Service.

[FR Doc. 2025-11941 Filed 6-26-25; 8:45 am]

BILLING CODE 3510-22-P